EXPORT-IMPORT BANK

Sunshine Act Meeting; Notice of an Open Meeting of the Board of Directors of the Export-Import Bank of the United States

TIME AND DATE: Tuesday, April 14, 2020 at 10:00 a.m.

PLACE: The meeting will be held via Teleconference.

STATUS: The meeting will be open to public observation by teleconference.

MATTER TO BE CONSIDERED: Item No. 1—EXIM COVID-19 (coronavirus) Temporary Action to Address Urgent U.S. Under-Supply of Medical Supplies.

CONTACT PERSON FOR MORE INFORMATION: Members of the public who wish to attend the meeting should email Joyce Stone, Office of the General Counsel, 811 Vermont Avenue NW, Washington, DC 20571 (joyce.stone@exim.gov) by close of business Monday, April 13, 2020. Individuals will be given call-in information upon notice of attendance to EXIM.

NOTE: Pursuant to 5 U.S.C. 552b(e)(1) and 12 CFR 407.4, the agency has determined that agency business requires that a meeting be called with less that the required week notice in order to address the economic consequences caused by the exigencies of the COVID-19 virus. Accordingly, this notice is being published at the earliest practicable time.

Joyce Stone,
Assistant Corporate Secretary.

[FR Doc. 2020-07674 Filed 4-8-20; 11:15 am]

BILLING CODE 6690-01-P